CORPORATION FOR NATIONAL AND COMMUNITY SERVICE

Agency Information Collection Activities; Submission to the Office of Management and Budget for Review and Approval; Comment Request; President's Volunteer Service Awards (PVSA), Parts A, B, C, D and E

AGENCY: Corporation for National and Community Service (CNCS).

ACTION: Notice of Information Collection; request for comment.

SUMMARY: In accordance with the Paperwork Reduction Act of 1995, CNCS is proposing to renew an information collection. CNCS is soliciting comments concerning its proposed renewal of Parts A, B, C, D, and E of the President's Volunteer Service Awards (PVSA) nomination form, which are used to collect information that allows CNCS and its contractor to verify that individuals, schools, and organizations have fulfilled requirements for the award.

DATES: Written comments must be submitted to the individual and office listed in the ADDRESSES section by September 30, 2019.

ADDRESSES: You may submit comments, identified by the title of the information collection activity, by any of the following methods:

(1) By mail sent to: Corporation for National and Community Service, Office of External Affairs, Attention David Premo, Room 2119D, 250 E Street SW, Washington, DC 20525.

(2) By hand delivery or by courier to the CNCS mailroom at the mail address given in paragraph (1) above, between 9:00 a.m. and 4:00 p.m. Eastern Time, Monday through Friday, except federal holidays.

(3) Electronically through www.regulations.gov.

Comments submitted in response to this notice may be made available to the public through regulations.gov. For this reason, please do not include in your comments information of a confidential nature, such as sensitive personal information or proprietary information. If you send an email comment, your email address will be automatically captured and included as part of the comment that is placed in the public docket and made available on the internet. Please note that responses to this public comment request containing any routine notice about the confidentiality of the communication will be treated as public comment that may be made available to the public, notwithstanding the inclusion of the routine notice.

FOR FURTHER INFORMATION CONTACT: David Premo, 202-606-6717 or by email at dpremo@cns.gov.

SUPPLEMENTARY INFORMATION:

Title of Collection: President's Volunteer Service Awards, Parts A, B, C, D, and E.

OMB Control Number: 3045-0086. Type of Review: Renewal.

Respondents/Affected Public: All citizens of the United States.

Total Estimated Number of Annual Responses: 200,000.

Total Estimated Number of Annual Burden Hours: 66,666 Hours (average 20 minutes per response).

Abstract: The President's Volunteer Service Awards are administered by CNCS per Executive Order 13285 and were established to recognize individuals, schools, and organizations that excel in efforts to support volunteer service and civic participation, especially with respect to students in primary schools, secondary schools, and institutions of higher learning. The information collected will be used to identify recipients of the President's Volunteer Service Awards. The information is collected electronically using a web-based system administered by contractor to CNCS. CNCS seeks to renew the current information collection.

The administering organization uses the collected information to review nominations of individuals and organization for compliance, and awards are made on that basis. The collected information is also used to ensure the integrity of the program (so that, for example, an individual or organization does not receive an award twice for the same project), to gather data and report on the accomplishments of the program, for public awareness campaigns (such as press releases and website information on winning projects), and to further the purposes of Executive Order 13285, such as fostering partnerships, coordination of projects, and promoting civic engagement.

Comments submitted in response to this notice will be summarized and/or included in the request for OMB approval. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. All written comments will be available for public inspection on regulations.gov.

Dated: July 18, 2019.
Rhonda Taylor,
Director of Partnerships and Program Engagement.

[FR Doc. 2019-16285 Filed 7-30-19; 8:45 am]

BILLING CODE 6050-28-P